FEDERAL MARITIME COMMISSION

Notice of Agreement(s) Filed

The Commission hereby gives notice of the filing of the following agreement(s) under the Shipping Act of 1984. Interested parties can review or obtain copies of agreements at the Washington, DC offices of the Commission, 800 North Capitol Street, NW, Room 962. Interested parties may submit comments on an agreement to the Secretary, Federal Maritime Commission, Washington, DC 20573, within 10 days of the date this notice appears in the Federal Register.

Agreement No.: 202-010776-116.

Title: Asia North America Eastbound Rate Agreement.

Parties: American President Lines, Ltd., APL Co. Pte Ltd., Hapag-Lloyd Container Linie GmbH, Kawasaki Kisen Kaisha, Ltd., A.P. Moller-Maersk SeaLand, Mitsui O.S.K. Lines, Ltd., Nippon Yusen Kaisha, Orient Overseas Container Line, P&O Nedlloyd B.V., P&O Nedlloyd Limited.

Synopsis: The modification extends the suspension of the conference through November 1, 2000.

Agreement No.: 203-011681-001.

Title: Amazon River Discussion Agreement.

Parties: Amazon Line Ltd., APL Co. Pte. Ltd., American Transport Line, Mitsui O.S.K. Lines Ltd., P&O Nedlloyd B.V.

Synopsis: The proposed amendment would remove language excluding states bordering on the U.S. Pacific Coast from those U.S. states which the parties might serve via U.S. Atlantic and Gulf ports. In Brazil, it would delete previous restrictive language and would allow service to all inland and coastal points served via Belem, Manaus, and Amazon River ports North of Manaus.

Agreement No.: 217-011696.

Title: The KL/YML Asia/U.S. East and Gulf Coast Slot Exchange Agreement.

Parties: Kawasaki Kisen Kaisha, Ltd., Yang Ming Transport Corporation.

Synopsis: The proposed Agreement would permit the parties to charter space to one another aboard their own vessels or on vessels on which they have chartered space in the trade between United States Atlantic and Gulf ports, and inland U.S. points via such ports, and ports and points in Japan, Korea, China, and Taiwan.

Agreement No.: 202-011697.

Title: North East Independent Carrier Agreement.

Parties: NPR Inc., Tecmarine Liner Inc., Kent Line.

Synopsis: The proposed agreement authorizes the parties to establish a conference in the trade between ports and points in the United States North Atlantic, Puerto Rico, and the U.S. Virgin Islands, and ports and points in the Dominican Republic, Haiti, Trinidad, Jamaica, Venezuela, Leeward and Windward Islands, Guyana, and Suriname.

Dated: March 10, 2000.
By order of the Federal Maritime Commission.
Bryant L. VanBrakle,
Secretary.

[FR Doc. 00-6417 Filed 3-14-00; 8:45 am]

BILLING CODE 6730-01-P